DEPARTMENT OF TRANSPORTATION

Surface Transportation Board

[STB Docket No. AB-290 (Sub-No. 294X); STB Docket No. AB-55 (Sub-No. 676X)]

Norfolk Southern Railway Company—Discontinuance Exemption—in Mercer County, NJ; CSX Transportation, Inc.—Discontinuance Exemption—in Mercer County, NJ

AGENCY: Surface Transportation Board, DOT.

ACTION: Notice of exemption.

SUMMARY: The Board, on its own motion, in a decision served on January 26, 2007, is exempting Norfolk Southern Railway Company and CSX Transportation, Inc. from the prior approval requirements of 49 U.S.C. 10903 to discontinue service over a line of railroad known as the Robbinsville Industrial Track, subject to the employee protective conditions in Oregon Short Line R. Co.—Abandonment—Goshen, 360 I.C.C. 91 (1979). The line extends between milepost 32.20± and milepost 37.90± in the cities of Hamilton Township and Washington Township, Mercer County, NJ, a distance of approximately 5.7 miles. The decision also grants a petition for reconsideration filed by Mr. James Riffin in a related docket, STB Docket No. AB-167 (Sub-No. 1185X), a proceeding in which Consolidated Rail Corporation filed a notice of exemption to abandon the instant line.

DATES: Any offer of financial assistance (OFA) under 49 CFR 1152.27(c) must be received by the railroad and the Board by February 5, 2007. Provided no OFA has been received, the exemptions will be effective on February 15, 2007.

ADDRESSES: An original and 10 copies of all pleadings referring to STB Docket No. AB-290 (Sub-No. 294X) or STB Docket No. AB-55 (Sub-No. 676X) must be filed with the Surface Transportation Board, 1925 K Street, NW., Washington, DC 20423-0001. In addition, send one copy of any pleadings to: (1) James R. Paschall, Senior General Attorney, Norfolk Southern Corporation, Three Commercial Place, Norfolk, VA 23510; (2) Steven C. Armbrust, Counsel, CSX Transportation, Inc., 500 Water Street, Jacksonville, FL 32202; (3) and all parties of record in STB Docket No. AB-167 (Sub-No. 1185X).

FOR FURTHER INFORMATION CONTACT: Joseph H. Dettmar, (202) 565-1609.

(Assistance for the hearing impaired is available through the Federal Information Relay Service (FIRS) at 1-800-877-8339.)

SUPPLEMENTARY INFORMATION: Additional information is contained in the Board's decision. To purchase a copy of the full decision, write, e-mail, or call: ASAP Document Solutions, 9332 Annapolis Rd., Suite 103, Lanham, MD 20706; e-mail: asapdc@verizon.net; telephone: (202) 306-4004. [Assistance for the hearing impaired is available through FIRS at 1-800-877-8339.]

Board decisions and notices are available on our Web site at http://www.stb.dot.gov.

Decided: January 18, 2007.
By the Board, Chairman Nottingham, Vice Chairman Buttrey, and Commissioner Mulvey.
Vernon A. Williams,
Secretary.

[FR Doc. E7-1115 Filed 1-25-07; 8:45 am]

BILLING CODE 4915-01-P